DEPARTMENT OF AGRICULTURE

Submission for OMB Review; Comment Request

July 24, 2020.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by August 28, 2020 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: Operating Guidelines, Forms and Waivers.

OMB Control Number: 0584-0083.

Summary of Collection: Under Section 16 of the Food and Nutrition Act of 2008 (the Act), 7 U.S.C. 2025, the Secretary is authorized to pay each State agency an amount equal to 50 percent of all administrative costs involved in each State agency's operation of the Supplemental Nutrition Assistance Program (SNAP). Under corresponding SNAP regulations at 7 CFR 272.2(c), the State agency is required to submit and maintain annually for FNS approval a (1) Budget Projection Statement (FNS-366A), which projects total costs for major areas of SNAP operations, and (2) a Program Activity Statement (FNS-366B), which provides a summary of SNAP operations during the preceding fiscal year both approved by OMB under the Food Processing Reporting Systems (FPRS). Additionally, Under Section 11(o) of the Act each State agency is required to develop and submit plans for the use of (3) automated data processing (ADP) and information retrieval systems to administer SNAP. As for (4) State Plan of Operation Updates, State agencies will submit the operations planning documents to the appropriate regional office for approval through the SNAP The Waiver Information Management System (WIMS) (5) the Federal Financial Reporting Form SF 425 (known as SF 425/FNS 778); (6) Other ADP Plan or Updates. Additionally, to improve operational efficiency and streamline the agency's information collection portfolio, FNS is merging the recordkeeping hours for the State Issuance and Participation Estimates (FNS-388) and Supplemental Nutrition Assistance Program Project Area Data Format (FNS-388A) into this information collection and will submit a discontinuation request for 0584-0081. We are not seeking reporting burden hours for FNS 388 or 388A.

Need and Use of the Information: FNS will collect information to estimate funding needs and also provide data on the number of applications processed, number of fair hearings, and fraud control activity. FNS uses the data to estimate funding needs and to monitor State agency activity levels and performance. If the information were not collected it would disrupt budget planning and delay appropriation distributions and FNS would not be able to verify and ensure State compliance with statutory criteria. The FNS-388 and FNS-388A records State agencies are required to maintained by the same recordkeeping activities are essentially the same; three years. We are merging this information collection for operational efficiency.

Description of Respondents: State, Local or Tribal Government.

Number of Respondents: 53.

Frequency of Responses: Recordkeeping; Reporting: Annually.

Total Burden Hours: 1,124.

Ruth Brown,
Departmental Information Collection Clearance Officer.

[FR Doc. 2020-16381 Filed 7-28-20; 8:45 am]

BILLING CODE 3410-30-P